DEPARTMENT OF ENERGY

Federal Energy Regulatory Commission

[Docket No. RA16-2-000]

Fluke Corporation; Notice of Termination of Proceeding

On July 8, 2016, Fluke Corporation (Fluke) filed a Petition for Review of Denial of Adjustment Request, Request for Hearing, and Request for Confidential Treatment (Petition) under Subpart J of the Commission's Rules of Practice and Procedure.¹ Fluke's Petition alleged that the Department of Energy (DOE) Office of Hearings and Appeals (OHA) inappropriately denied applications for various forms of relief from DOE energy conservation standards applicable to external power supplies.

¹ 18 CFR 385.1004 and 385.1006 (2017).

On January 19, 2018, the Administrative Law Judge designated to serve as the presiding officer, Judge David H. Coffman, issued a Report to the Commission and reported that on January 16, 2018, Fluke and DOE filed a Joint Notice of Satisfaction representing that OHA vacated its orders denying Fluke's applications for relief. Accordingly, consistent with the Proposed Settlement filed on November 20, 2017, the Judge deemed the Petition and Fluke's applications to OHA to be withdrawn.

Take notice that the proceeding in Docket No. RA16-2-000 is, as a consequence, deemed terminated.

Dated: April 6, 2018.
Kimberly D. Bose,
Secretary.

[FR Doc. 2018-07553 Filed 4-11-18; 8:45 am]

BILLING CODE 6717-01-P